DEPARTMENT OF ENERGY

Federal Energy Regulatory Commission

Combined Notice of Filings #2

Take notice that the Commission received the following electric rate filings:

Docket Numbers: ER10-1107-002; ER10-1107-004.

Applicants: Pacific Gas and Electric Company.

Description: Clarification to December 31, 2102 updated market power analysis for the Southwest Region and September 6, 2013 Notice of Non-Material Change in Status of Pacific Gas and Electric Company.

Filed Date: 7/28/14.

Accession Number: 20140728-5104.

Comments Due: 5 p.m. ET 8/7/14.

Docket Numbers: ER14-2343-000.

Applicants: Florida Power & Light Company.

Description: FPL and Seminole Electric Cooperative, Inc. Supplement to TSA No. 162 to be effective N/A.

Filed Date: 7/28/14.

Accession Number: 20140728-5134.

Comments Due: 5 p.m. ET 8/18/14.

Docket Numbers: ER14-2514-000.

Applicants: ISO New England Inc., New England Power Company.

Description: Local Service Agreements TSA-NEP-83 and TSA-NEP-86 to be effective 9/27/2014.

Filed Date: 7/28/14.

Accession Number: 20140728-5091.

Comments Due: 5 p.m. ET 8/18/14.

Docket Numbers: ER14-2515-000.

Applicants: Florida Power & Light Company.

Description: FPL Revisions to LCEC Rate Schedule No. 312 to be effective 1/1/2013.

Filed Date: 7/28/14.

Accession Number: 20140728-5115.

Comments Due: 5 p.m. ET 8/18/14.

Docket Numbers: ER14-2516-000.

Applicants: Florida Power & Light Company.

Description: FPL Revisions to LCEC Rate Schedule No. 317 to be effective 1/1/2014.

Filed Date: 7/28/14.

Accession Number: 20140728-5117.

Comments Due: 5 p.m. ET 8/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2014.
Nathaniel J. Davis, Sr.,
Deputy Secretary.

[FR Doc. 2014-18319 Filed 8-1-14; 8:45 am]

BILLING CODE 6717-01-P